DEPARTMENT OF TRANSPORTATION

Federal Aviation Administration

14 CFR Part 39

[Docket No. FAA-2023-0438; Project Identifier 2015-NM-065-AD]

RIN 2120-AA64

Airworthiness Directives; Airbus SAS Airplanes

AGENCY: Federal Aviation Administration (FAA), DOT.

ACTION: Notice of proposed rulemaking (NPRM).

SUMMARY: The FAA proposes to remove Airworthiness Directive (AD) 2016-15-01, which applies to all Airbus SAS Model A300 series airplanes; Model A300 B4-600, B4-600R, and F4-600R series airplanes, and Model A300 C4-605R Variant F airplanes (collectively called Model A300-600 series airplanes); and Model A310 series airplanes. AD 2016-15-01 requires an inspection to determine trimmable horizontal stabilizer actuator (THSA) part numbers, serial numbers, and flight cycles on certain THSAs; and repetitive replacement of certain THSAs. AD 2016-15-01 is no longer necessary, because the FAA has issued AD 2022-25-12 to terminate AD 2016-15-01 for Model A310 series airplanes and an NPRM that would terminate AD 2016-15-01 for Model A300-600 series airplanes. The FAA has also determined that the inclusion of the Model A300 series airplanes in the applicability of AD 2016-15-01 was an inadvertent error. Accordingly, the FAA proposes to remove AD 2016-15-01.

DATES: The FAA must receive comments on this proposed AD by May 12, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-0438; or in person at Docket Operations between 9 a.m. and 5 p.m., Monday through Friday, except Federal holidays. The AD docket contains this NPRM, any comments received, and other information. The street address for Docket Operations is listed above.

FOR FURTHER INFORMATION CONTACT: Dan Rodina, Aerospace Engineer, Large Aircraft Section, FAA, International Validation Branch, 2200 South 216th St., Des Moines, WA 98198; telephone 206-231-3225; email dan.rodina@faa.gov.

SUPPLEMENTARY INFORMATION:

Comments Invited

The FAA invites you to send any written relevant data, views, or arguments about this proposal. Send your comments to an address listed under ADDRESSES. Include “Docket No. FAA-2023-0438; Project Identifier 2015-NM-065-AD” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Dan Rodina, Aerospace Engineer, Large Aircraft Section, FAA, International Validation Branch, 2200 South 216th St., Des Moines, WA 98198; telephone 206-231-3225; email dan.rodina@faa.gov. Any commentary that the FAA receives that is not specifically designated as CBI will be placed in the public docket for this rulemaking.

Background

The FAA issued AD 2016-15-01, Amendment 39-18592 (81 FR 47696, July 22, 2016) (AD 2016-15-01), for Airbus SAS Model A300 series airplanes; Model A300-600 series airplanes; and Model A310 series airplanes. AD 2016-15-01 requires an inspection to determine THSA part numbers, serial numbers, and flight cycles on certain THSAs; and repetitive replacement of certain THSAs. AD 2016-15-01 was prompted by reports of partial loss of no-back brake (NBB) efficiency on the THSA. The FAA issued AD 2016-15-01 to prevent loss of THSA NBB efficiency, which, in conjunction with the inability of the power gear to keep the ball screw in its last commanded position, could lead to an uncommanded movement of the horizontal stabilizer, possibly resulting in loss of control of the airplane.

Actions Since AD 2016-15-01 Was Issued

Since the FAA issued AD 2016-15-01, the European Union Aviation Safety Agency (EASA) issued AD 2015-0081-CN, dated October 7, 2022, to cancel EASA AD 2015-0081. EASA AD 2015-0081-CN states that EASA ADs 2022-0194 and 2022-0195, both dated September 23, 2022, require incorporating new airworthiness tasks, which include the replacement of certain THSAs, as required by EASA AD 2015-0081 (which corresponds to FAA AD 2016-15-01).

The FAA has issued AD 2022-25-12, Amendment 39-22268 (87 FR 78518, December 22, 2022) (AD 2022-25-12) which addresses the same unsafe condition for the Airbus SAS Model A310 series airplanes. AD 2022-25-12 requires revising the existing maintenance or inspection program, as applicable, to incorporate new or more restrictive airworthiness limitations, as specified in EASA AD 2022-0195.

The FAA has also issued an NPRM, Docket No. FAA-2022-1660 (88 FR 2035, January 12, 2023) to address the same unsafe condition for the Airbus SAS Model A300-600 series airplanes. In that NPRM, the FAA proposed to require revising the existing maintenance or inspection program, as applicable, to incorporate new or more restrictive airworthiness limitations, as specified in EASA AD 2022-0194.

The FAA has also determined that the Airbus SAS Model A300 series airplanes are not affected by the unsafe condition addressed by AD 2016-15-01. The inclusion of the Model A300 series airplanes in the applicability of AD 2016-15-01 was an inadvertent error.

FAA's Conclusions

Upon further consideration, the FAA has determined that AD 2016-15-01 is no longer necessary. Accordingly, this proposed AD would remove AD 2016-15-01. Removal of AD 2016-15-01 would not preclude the FAA from issuing another related action or commit the FAA to any course of action in the future. This proposed AD would remove all actions of AD 2016-15-01. Therefore, this proposed AD would terminate all requirements of AD 2016-15-01.

Related Costs of Compliance

This proposed AD would add no cost. This proposed AD would remove AD 2016-15-01 from 14 CFR part 39; therefore, operators would no longer be required to show compliance with that AD.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2016-15-01, Amendment 39-18592 (81 FR 47696, July 22, 2016), and

b. Adding the following new airworthiness directive:

Airbus SAS: Docket No. FAA-2023-0438; Project Identifier 2015-NM-065-AD.

(a) Comments Due Date

The FAA must receive comments on this AD action by May 12, 2023.

(b) Affected Airworthiness Directives (ADs)

This AD replaces AD 2016-15-01, Amendment 39-18592 (81 FR 47696, July 22, 2016).

(c) Applicability

This AD applies to the Airbus SAS airplanes identified in paragraphs (c)(1) through (c)(6) of this AD, certificated in any category, all manufacturer serial numbers.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(6) Model A310-203, -204, -221, -222, -304, -322, -324, and -325 airplanes.

(d) Subject

Air Transport Association (ATA) of America Code 27, Flight controls.

(e) Terminating Action

This AD terminates all requirements of AD 2016-15-01.

(f) Related Information

For more information about this AD, contact Dan Rodina, Aerospace Engineer, Large Aircraft Section, FAA, International Validation Branch, 2200 South 216th St., Des Moines, WA 98198; telephone 206-231-3225; email dan.rodina@faa.gov.

(g) Material Incorporated by Reference

None.

Issued on March 17, 2023.
Christina Underwood,
Acting Director, Compliance & Airworthiness Division, Aircraft Certification Service.

[FR Doc. 2023-05941 Filed 3-27-23; 8:45 am]

BILLING CODE 4910-13-P